DEPARTMENT OF THE INTERIOR

Minerals Management Service

Preparation of an Environmental Assessment (EA) for Proposed Outer Continental Shelf (OCS) Oil and Gas Lease Sale 216 in the Central Gulf of Mexico Planning Area (2011)

AGENCY: Minerals Management Service, Interior.

ACTION: Notice of Preparation (NOP) of an Environmental Assessment (EA).

SUMMARY: The purpose of the NOP is to gather new information on environmental impacts of oil and gas leasing, exploration, and development that might result from an Outer Continental Shelf (OCS) oil and gas lease sale tentatively scheduled for March 2011.

DATES: Comments must be received no later than May 5, 2010 at the address specified below.

Before including your address, phone number, e-mail address, or other personal identifying information in your comment, you should be aware that your entire comment—including your personal identifying information—may be made publicly available at any time. While you can ask us in your comment to withhold your personal identifying information from public review, we cannot guarantee that we will be able to do so.

ADDRESSES: Federal, State, and local government agencies, and other interested parties are requested to send their written comments on the EA, significant issues that should be addressed, and alternatives that should be considered in one of the following ways:

1. In written form enclosed in an envelope labeled “Comments on the Lease Sale 216 EA” and mailed (or hand carried) to the Regional Supervisor, Leasing and Environment (Mail Stop 5410), Minerals Management Service, Gulf of Mexico OCS Region, 1201 Elmwood Park Boulevard, New Orleans, Louisiana 70123-2394.

2. Electronically to the MMS e-mail address: WPALeaseSale216@mms.gov.

FOR FURTHER INFORMATION CONTACT: For information on the NOP, you may contact Mr. Quazi T. Islam, Gulf of Mexico OCS Region, 1201 Elmwood Park Boulevard, New Orleans, Louisiana 70123-2394, telephone (504) 736-2780. For information on the EA, you may contact Gary D. Goeke, Gulf of Mexico OCS Region, 1201 Elmwood Park Boulevard, MS 5410, New Orleans, Louisiana 70123-2394 or by e-mail at CPALeaseSale216@mms.gov. You may also contact Mr. Goeke by telephone at (504) 736-3233.

Notice of Preparation of an Environmental Assessment

1. Authority

This NOP is published pursuant to the regulations (40 CFR 1501.7) implementing the provisions of the National Environmental Policy Act of 1969 (NEPA), as amended (42 U.S.C. 4321 et seq. (1988)).

2. Purpose of Notice of Preparation

Pursuant to the regulations implementing the procedural provisions of NEPA, MMS is announcing its intent to prepare an EA on an oil and gas lease sale tentatively scheduled for early 2011 in the Central Planning Area (CPA) offshore of the States of Louisiana, Mississippi, Alabama, and Florida. The MMS is issuing this notice to facilitate public involvement. The preparation of this EA is an important step in the decision process for Lease Sale 216. The proposal for Lease Sale 216 was analyzed in the Gulf of Mexico OCS Oil and Gas Lease Sales: 2009-2012: Central Planning Area Sales 208, 213, 216, and 222; Western Planning Area Sales 210, 215, and 218—Final Supplemental Environmental Impact Statement (Supplemental EIS, OCS EIS/EA MMS 2008-041). This EA for proposed Lease Sale 216 will reexamine the potential environmental effects of the proposed lease sale and its alternatives (i.e., excluding the unleased blocks near biologically sensitive topographic features; excluding the unleased blocks within 15 miles of the Baldwin County, Alabama, coast; and no action) based on changes in the proposed action and any new relevant information and circumstances regarding potential environmental impacts and issues that were not available at the time the Supplemental EIS was prepared, to determine if preparation of a new supplemental EIS is warranted.

3. Supplemental Information

Final delineation of this area for possible leasing will be made at a later date and in compliance with applicable laws, including all requirements of NEPA, the Coastal Zone Management Act, Outer Continental Shelf Lands Act, and other applicable statutes. Established Departmental procedures will also be followed.

The MMS routinely assesses the status of information acquisition efforts and the quality of the information base for potential decisions on a tentatively scheduled lease sale. An extensive environmental studies program has been underway in the Gulf of Mexico (GOM) since 1973. The emphasis, including continuing studies, has been on “environmental analysis” of biologically sensitive habitats, physical oceanography, ocean-circulation modeling, ecological effects of oil and gas activities, and hurricane impacts on coastal communities and the environment.

Federal regulations allow for several related or similar proposals to be analyzed in one EIS (40 CFR 1502.4). Each proposed lease sale and its projected activities are very similar each year for each planning area. The Multisale EIS (OCS EIS/EA MMS 2007-018) addressed Western Planning Area (WPA) Lease Sale 204 in 2007, Sale 207 in 2008, Sale 210 in 2009, Sale 215 in 2010, and Sale 218 in 2011; and CPA Lease Sale 205 in 2007, Sale 206 in 2008, Sale 208 in 2009, Sale 213 in 2010, Sale 216 in 2011, and Sale 222 in 2012. However, the Gulf of Mexico Energy Security Act of 2006 repealed the congressional moratorium on approximately 5.8 million acres located in the southeastern part of the CPA. Therefore, it was necessary to prepare additional NEPA documentation to address the MMS proposal to expand the CPA by the 5.8 million-acre area. A single Supplemental EIS was prepared for the remaining seven WPA and CPA lease sales scheduled in the OCS Oil and Gas Leasing Program: 2007-2012 (5-Year Program). In September 2008, MMS published a Supplemental EIS (OCS EIS/EA MMS 2008-041) that addressed seven proposed Federal actions that would offer for lease areas on the GOM OCS that may contain economically recoverable oil and gas resources.

After completion of this EA, the MMS will determine whether to prepare a Finding of No New Significant Impact (FONNSI) or a Supplemental EIS for Lease Sale 216 and the subsequent sales. The MMS prepares a Consistency Determination (CD) to determine whether the lease sale is consistent with each affected state's federally approved Coastal Zone Management program. Finally, the MMS will solicit comments via the Proposed Notice of Sale (NOS) from the Governors of the affected states on the size, timing, and location of the lease sale. The tentative schedule for the prelease decision process for Lease Sale 216 is as follows: EA/FONSI or Supplemental EIS decision will be completed in September-October 2010; CDs will be sent to the affected states approximately 5 months before the lease sale; Proposed NOS sent to the Governors of the affected states approximately 5 months before the lease sale; Final NOS, if applicable, will be published in the Federal Register in February 2011.

Dated: March 31, 2010.
S. Elizabeth Birnbaum,
Director, Minerals Management Service.

[FR Doc. 2010-7719 Filed 4-2-10; 8:45 am]

BILLING CODE 4310-MR-P